FEDERAL RESERVE SYSTEM

12 CFR Part 220

[Regulation T]

Credit by Brokers and Dealers; List of Foreign Margin Stocks

AGENCY: Board of Governors of the Federal Reserve System.

ACTION: Final rule; determination of applicability of regulations.

SUMMARY: The List of Foreign Margin Stocks (Foreign List) is composed of certain foreign equity securities that qualify as margin securities under Regulation T. The Foreign List is published twice a year by the Board.

EFFECTIVE DATE: September 15, 2003.

FOR FURTHER INFORMATION CONTACT: Peggy Wolffrum, Financial Analyst, Division of Banking Supervision and Regulation, (202) 452-2837, or Scott Holz, Senior Counsel, Legal Division, (202) 452-2966, Board of Governors of the Federal Reserve System, Washington, DC 20551.

SUPPLEMENTARY INFORMATION: Listed below is a complete edition of the Board's Foreign List. The Foreign List was last published on February 27, 2003 (68 FR 8993), and became effective March 1, 2003.

The Foreign List is composed of foreign equity securities that qualify as margin securities under Regulation T by meeting the requirements of § 220.11(c) and (d). Additional foreign securities qualify as margin securities if they are deemed by the Securities and Exchange Commission (SEC) to have a “ready market” under SEC Rule 15c3-1 (17 CFR 240.15c3-1) or a “no-action” position issued thereunder. This includes all foreign stocks in the FTSE World Index Series.

It is unlawful for any creditor to make, or cause to be made, any representation to the effect that the inclusion of a security on the Foreign List is evidence that the Board or the SEC has in any way passed upon the merits of, or given approval to, such security or any transactions therein. Any statement in an advertisement or other similar communication containing a reference to the Board in connection with the Foreign List or the stocks thereon shall be an unlawful representation.

There are no additions to, or deletions from, the Foreign List.

Public Comment and Deferred Effective Date

The requirements of 5 U.S.C. 553 with respect to notice and public participation were not followed in connection with the issuance of this amendment due to the objective character of the criteria for inclusion and continued inclusion on the Foreign List specified in § 220.11(c) and (d). No additional useful information would be gained by public participation. The full requirements of 5 U.S.C. 553 with respect to deferred effective date have not been followed in connection with the issuance of this amendment because the Board finds that it is in the public interest to facilitate investment and credit decisions based in whole or in part upon the composition of the Foreign List as soon as possible. The Board has responded to a request by the public and allowed approximately a one-week delay before the Foreign List is effective.

List of Subjects in 12 CFR Part 220

Brokers, Credit, Margin, Margin requirements, Investments, Reporting and recordkeeping requirements, Securities.

Accordingly, pursuant to the authority of sections 7 and 23 of the Securities Exchange Act of 1934, as amended (15 U.S.C. 78g and 78w), and in accordance with 12 CFR 220.2 and 220.11, there is set forth below a complete edition of the Foreign List.

Japan

Akita Bank, Ltd., ¥50 par common

Aomori Bank, Ltd., ¥50 par common

Asatsu-Dk Inc., ¥50 par common

Bank of Nagoya, Ltd., ¥50 par common

Chudenko Corp., ¥50 par common

Chugoku Bank, Ltd., ¥50 par common

Daihatsu Motor Co., Ltd., ¥50 par common

Dainippon Screen Mfg. Co., Ltd., ¥50 par common

Denki Kagaku Kogyo, ¥50 par common

Eighteenth Bank, Ltd., ¥50 par common

Futaba Corp., ¥50 par common

Futaba Industrial Co., Ltd., ¥50 par common

Higo Bank, Ltd., ¥50 par common

Hitachi Software Engineering Co., Ltd., ¥50 par common

Hokkoku Bank, Ltd., ¥50 par common

Hokuetsu Paper Mills, Ltd., ¥50 par common

Iyo Bank, Ltd., ¥50 par common

Japan Airport Terminal Co., Ltd., ¥50 par common

Juroku Bank, Ltd, ¥50 par common

Kagoshima Bank, Ltd., ¥50 par common

Kamigumi Co., Ltd., ¥50 par common

Katokichi Co., Ltd., ¥50 par common

Keisei Electric Railway Co., Ltd., ¥50 par common

Keiyo Bank, Ltd., ¥50 par common

Komori Corp., ¥50 par common

Konami Co., Ltd., ¥50 par common

Michinoku Bank, Ltd., ¥50 par common

Musashino Bank, Ltd., ¥500 par common

Namco, Ltd., ¥50 par common

Nichicon Corp., ¥50 par common

Nihon Unisys, Ltd., ¥50 par common

Nishi-Nippon Bank, Ltd., ¥50 par common

Nishi-Nippon Railroad Co., Ltd., ¥50 par common

Nissan Chemical Industries, Ltd., ¥50 par common

Ogaki Kyoritsu Bank, Ltd., ¥50 par common

Q.P. Corp., ¥50 par common

Rinnai Corporation, ¥50 par common

Sagami Railway Co., Ltd., ¥50 par common

Sakata Seed Corp., ¥50 par common

Santen Pharmaceutical Co., Ltd., ¥50 par common

Shimadzu Corp., ¥50 par common

Shimamura Co., Ltd., ¥50 par common

Sumitomo Rubber Indsutries, Ltd., ¥50 par common

Taiyo Yuden Co., Ltd., ¥50 par common

Takara Standard Co., Ltd., ¥50 par common

Toho Bank, Ltd., ¥50 par common

Toho Gas Co., Ltd., ¥50 par common

Tokyo Ohka Kogyo Co., Ltd., ¥50 par common

Uni-Charm Corp., ¥50 par common

Ushio, Inc., ¥50 par common

Yamaha Motor Co., Ltd., ¥50 par common

By order of the Board of Governors of the Federal Reserve System, acting by its Director of the Division of Banking Supervision and Regulation pursuant to delegated authority (12 CFR 265.7(f)(10)), August 28, 2003.
Jennifer J. Johnson,
Secretary of the Board.

[FR Doc. 03-22532 Filed 9-3-03; 8:45 am]

BILLING CODE 6210-01-P